NATIONAL AERONAUTICS AND SPACE ADMINISTRATION

[Notice 01-070]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: June 14, 2001.

FOR FURTHER INFORMATION CONTACT: Randy Heald, Patent Counsel, Kennedy Space Center, Mail Code CC-A, Kennedy Space Center, FL 32899; telephone (321) 867-7214, fax (321) 867-1817.

NASA Case No. KSC-11991: Transient Voltage Recorder;

NASA Case No. KSC-11992: System and Method of Locating Lightning Strikes;

NASA Case No. KSC-12168: Personal Cabin Pressure Monitor and Warning System.

Dated: June 4, 2001.
Edward A. Frankle,
General Counsel.

[FR Doc. 01-15013 Filed 6-13-01; 8:45 am]

BILLING CODE 7510-01-P